DEPARTMENT OF DEFENSE

Department of the Navy

32 CFR Part 752

RIN 0703-AA72

Admiralty Claims

AGENCY: Department of the Navy, DOD.

ACTION: Final rule.

SUMMARY: The Department of the Navy is amending its regulations concerning the limit on the Secretary of the Navy's settlement authority on admiralty claims to reflect recent changes to Chapter XII of the Manual of the Judge Advocate General (JAGMAN).

DATES: Effective April 16, 2004.

FOR FURTHER INFORMATION CONTACT: LCDR Jason Baltimore, Personnel Law Branch, Administrative Law Division (Code 13), Office of the Judge Advocate General, 1322 Patterson Avenue SE., Suite 3000, Washington Navy Yard, DC 20374-5066, (703) 604-8208.

SUPPLEMENTARY INFORMATION: Pursuant to the authority cited below, the Department of the Navy amends 32 CFR part 752. This amendment provides notice that the Judge Advocate General of the Navy has made administrative corrections to the Admiralty Claims regulations found in Chapter XII of the JAGMAN. It has been determined that invitation of public comment on this amendment would be impractical and unnecessary, and is therefore not required under the public rule-making provisions of 32 CFR parts 336 and 701. However, interested persons are invited to comment in writing on this amendment. All written comments received will be considered in making subsequent amendments or revisions of 32 CFR part 752, or the instructions on which they are based. It has been determined that this final rule is not a major rule within the criteria specified in Executive Order 12866, as amended by Executive Order 13258, and does not have substantial impact on the public. This submission is a statement of policy and as such can be effective upon publication in the Federal Register.

Matters of Regulatory Procedure

Executive Order 12866, Regulatory Planning and Review

This rule does not meet the definition of “significant regulatory action” for purposes of Executive Order 12866, as amended by Executive Order 13258.

Regulatory Flexibility Act

This rule will not have a significant economic impact on a substantial number of small entities for purposes of the Regulatory Flexibility Act (5 U.S.C. Chapter 6).

Paperwork Reduction Act

This rule does not impose collection of information requirements for purposes of the Paperwork Reduction Act (44 U.S.C. Chapter 35, 5 CFR Part 1320).

List of Subjects in 32 CFR Part 752

Admiralty Claims.

For the reasons set forth in the preamble, the Department of the Navy amends 32 CFR Part 752 to read as follows:

PART 752—ADMIRALTY CLAIMS

§ 752.2 [Amended]

1. Section 752.2, paragraph (a), is amended by removing the date “(1994)” following all citations to the United States Code.

§ 752.3 [Amended]

2. Section 752.3, paragraph (a), is amended by removing the date “(1994)” following the citation to the United States Code and by removing the amount “$1,000,000” and adding in its place the amount “$15,000,000” wherever it occurs.

§ 752.4 [Amended]

3. Section 752.4, paragraphs (a) and (c), are amended by removing the date “(1994)” following all citations to the United States Code.

§ 752.5 [Amended]

4. Section 752.5, paragraph (b), is amended by removing the date “(1994)” following all citations to the United States Code.

Dated: April 5, 2004.
J.T. Baltimore,
Lieutenant Commander, Judge Advocate General's Corps, U.S. Navy, Alternate Federal Register Liaison Officer.

[FR Doc. 04-8631 Filed 4-15-04; 8:45 am]

BILLING CODE 3810-FF-P